DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Region Permit Family of Forms.

OMB Control Number: 0648-0206.

Form Number(s): None.

Type of Request: Regular (revision and extension of a currently approved information collection).

Number of Respondents: 662.

Average Hours per Response: Federal Fisheries Permit, 21 minutes; Federal Processor Permit, 25 minutes; Exempted Fisheries Permit, 20 hours.

Burden Hours: 319.

Needs and Uses: This request is for revision and extension of a currently approved information collection.

For a person to participate in Federal fisheries, NMFS requires a Federal Fisheries Permit (FFP), a Federal Processor Permit (FPP), or an Experimental Fisheries Permit (EFP). NMFS Alaska Region created a set of groundfish permits that operators of vessels and managers of processors must have onboard or onsite when fishing for, receiving, buying, or processing groundfish. These permits provide NMFS with a way to monitor participation in groundfish fisheries.

Section 303(b)(1) of the Magnuson-Stevens Act specifically recognizes the need for permit issuance. The requirement of a permit for marine resource users is one of the regulatory steps taken to carry out conservation and management objectives. The issuance of a permit is an essential ingredient in the management of fishery resources needed for identification of the participants and expected activity levels and for regulatory compliance (e.g., withholding of permit issuance pending collection of unpaid penalties).

Revision: the Federal Processor Permit application has been revised.

Affected Public: Business or other for-profit organizations.

Frequency: Annually and on occasion.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: October 20, 2014.
Glenna Mickelson,
Management Analyst, Office of the Chief Information Officer.

[FR Doc. 2014-25305 Filed 10-23-14; 8:45 am]

BILLING CODE 3510-22-P